DEPARTMENT OF HEALTH AND HUMAN SERVICES

Substance Abuse and Mental Health Services Administration

Agency Information Collection Activities: Submission for OMB Review; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Access to Recovery (ATR) Program—New

In preparation for implementing Performance Partnership Grants, SAMHSA has developed a set of performance outcome measures for substance abuse treatment that cover seven domains. The domains are: Abstinence from drug use and alcohol abuse, or decreased mental illness symptomatology; increased or retained employment and school enrollment; decreased involvement with the criminal justice system; increased stability in family and living conditions; increased access to services; increased retention in services for substance abuse treatment or decreased utilization of psychiatric inpatient beds for mental health treatment; and increased social connectedness to family, friends, co-workers and classmates.

SAMHSA's Center for Substance Abuse Treatment (CSAT), is responsible for implementing the new Access to Recovery (ATR) grant program. States funded in the ATR program will use these outcome measures to meet the reporting requirements of the Government Performance and Results Act (GPRA) by quantifying the effects and accomplishments of the funded programs. The ATR Program is part of a Presidential initiative to: (1) Provide client choice among substance abuse clinical treatment and recovery support service providers, (2) expand access to a comprehensive array of clinical treatment and recovery support options (including faith-based programmatic options), and (3) increase substance abuse treatment capacity. Monitoring outcomes, tracking costs, and preventing waste, fraud and abuse to ensure accountability and effectiveness in the use of Federal funds are also important elements of the ATR program. Grantees, as a contingency of their award, are responsible for collecting data from their clients at intake, discharge, at 30 days after intake, and every two months during an episode of care. An episode of care is defined as a client's entry to and exit from the ATR.

The following tables summarize the annual response burden for the ATR activities using the performance outcome measures.

ATR Program
Data collection point | Number of respondents | Responses per respondent | Hours per response | Annual burden hours
Client Interviews:
ATR Intake | 42,095 | 1 | 0.33 | 13,891
Those still in treatment at:
Discharge/30 day interview* | 42,095 | 1 | 0.33 | 13,891
3 months | 28,625 | 1 | 0.33 | 9,446
5 months | 22,732 | 1 | 0.33 | 7,502
7 months | 18,101 | 1 | 0.33 | 5,973
9 months | 15,155 | 1 | 0.33 | 5,001
11 months | 11,787 | 1 | 0.33 | 3,890
12+ months | 7,999 | 1 | 0.33 | 2,640
Client Total | 42,095 |  |  | 62,234
Record Management by Provider Staff:
Sections A & G at 30 days, 3, 5, 7, 9, 11 and 12+ months | † 146,494 | 1 | .1 | 14,649
Voucher Information | 42,095 | 1.5 | .03 | 1,894
States—15:
State extract & upload | 15 | 4 | .03 | 2
Total | 42,095 |  |  | 78,779
* The ATR interview will be administered every 2 months beginning at 30 days. It is assumed that those who are discharged at 30 days or less will receive an intake and discharge interview only and are included in the number in the first two rows. The number of respondents who are still in treatment by month is based on experience with CSAT's GPRA services data.
† Clients.

Send comments to Summer King, SAMHSA Reports Clearance Officer, Room 7-1045, 1 Choke Cherry Road, Rockville, MD 20850. Written comments should be received by January 18, 2005.

Patricia S. Bransford,
Acting Executive Officer, SAMHSA.

[FR Doc. 04-25539 Filed 11-17-04; 8:45 am]

BILLING CODE 4162-20-P